NATIONAL AERONAUTICS AND SPACE ADMINISTRATION

[Notice: (20-019)]

NASA Advisory Council; Human Explorations and Operations Committee; Meeting

AGENCY: National Aeronautics and Space Administration

ACTION: Notice of meeting postponement.

SUMMARY: In accordance with the Federal Advisory Committee Act, the National Aeronautics and Space Administration (NASA) announces that the planned meeting on March 3-4, 2020, of the Human Exploration and Operations Committee of the NASA Advisory Council (NAC) is being postponed until further notice.

SUPPLEMENTARY INFORMATION: This meeting was announced in the Federal Register on February 14, 2020 (REF: Federal Register/Vol. 85, No. 31/Friday, February 14, 2020/Notices; page 8613). The postponement of this meeting is due to NASA programmatic priorities and scheduling conflicts. NASA will announce the new dates for this meeting in a future Federal Register notice.

Patricia Rausch,
Advisory Committee Management Officer, National Aeronautics and Space Administration.

[FR Doc. 2020-04025 Filed 2-26-20; 8:45 am]

BILLING CODE 7510-13-P